DEPARTMENT OF THE INTERIOR

Fish and Wildlife Service

Reopening of Comment Period: Draft Policy on National Wildlife Refuge System: Mission, Goals, and Purposes (Notice); Draft Appropriate Refuge Uses Policy Pursuant to the National Wildlife Refuge System Improvement Act of 1997 (Notice); Draft Wildlife-Dependent Recreational Uses Policy Pursuant to the National Wildlife Refuge System Improvement Act of 1997 (Notice); and Draft Wilderness Stewardship Policy Pursuant to the Wilderness Act of 1964 (Notice)

AGENCY: Fish and Wildlife Service, Interior.

ACTION: Notice; further reopening of comment period.

SUMMARY: We are reopening the comment period on the Federal Register notice dated January 16, 2001, that invites the public to comment on the following draft policies: National Wildlife Refuge System: Mission, Goals, and Purposes; Appropriate Refuge Uses Policy Pursuant to the National Wildlife Refuge System Improvement Act of 1997; Wildlife-Dependent Recreational Uses Policy Pursuant to the National Wildlife Refuge System Improvement Act of 1997; and Wilderness Stewardship Policy Pursuant to the Wilderness Act of 1964.

DATES: Submit comments by or before June 14, 2001. Note that you must resubmit comments sent to us between April 19, 2001 and before May 15, 2001.

ADDRESSES: Submit comments in the following ways: in writing to Acting Chief, Division of Conservation Planning and Policy, National Wildlife Refuge System, U.S. Fish and Wildlife Service, 4401 N. Fairfax Drive, Room 670, Arlington, Virginia 22203; by FAX to (703) 358-2248; or by e:mail to one of the following addresses:

Mission_And _Goals_ Policy_Comments@fws.gov;

Appropriate_Uses_Policy_ Comments@fws.gov;

Wildlife_ Dependent_Recreational _Uses_Policy_Comments@fws.gov; or

Wilderness_Policy_Comments@fws.gov.

FOR FURTHER INFORMATION CONTACT: Barry Stieglitz, Acting Chief, Division of Conservation Planning and Policy, National Wildlife Refuge System (703) 358-1744.

SUPPLEMENTARY INFORMATION: In a Federal Register notice dated January 16, 2001 (66 FR 3668) we published draft policies for: National Wildlife Refuge System: Mission, Goals, and Purposes; Appropriate Refuge Uses Policy Pursuant to the National Wildlife Refuge System Improvement Act of 1997; Wildlife-Dependent Recreational Uses Policy Pursuant to the National Wildlife Refuge System Improvement Act of 1997; and Wilderness Stewardship Policy Pursuant to the Wilderness Act of 1964. These policies, affecting management and use of the National Wildlife Refuge System, represent the culmination of our initial policy development in response to the landmark National Wildlife Refuge System Improvement Act of 1997.

In a subsequent Federal Register notice dated March 15, 2001 (66 FR 15136) we extended the comment period until April 19, 2001 to ensure that the public had an adequate opportunity to review and comment on our draft policy.

To allow for continued discussion with the States on these policies, we are reopening the comment period for an additional 30 days.

Dated: April 30, 2001.
Marshall P. Jones, Jr.,
Acting Director, U.S. Fish and Wildlife Service.

[FR Doc. 01-12215 Filed 5-14-01; 8:45 am]

BILLING CODE 4310-55-U